DEPARTMENT OF ENERGY

Federal Energy Regulatory Commission

Combined Notice of Filings #1

Take notice that the Commission received the following exempt wholesale generator filings:

Docket Numbers: EG26-87-000.

Applicants: Golden Fields Solar VI, LLC.

Description: Golden Fields Solar VI, LLC submits Notice of Self-Certification of Exempt Wholesale Generator Status.

Filed Date: 12/2/25.

Accession Number: 20251202-5190.

Comment Date: 5 p.m. ET 12/23/25.

Take notice that the Commission received the following electric rate filings:

Docket Numbers: ER23-2829-003.

Applicants: Omnis Pleasants, LLC.

Description: Compliance filing: Omnis Pleasants, LLC, Compliance Settlement Effect. 8/7/2023 to be effective 8/7/2023.

Filed Date: 12/3/25.

Accession Number: 20251203-5049.

Comment Date: 5 p.m. ET 12/24/25.

Docket Numbers: ER23-2829-004.

Applicants: Omnis Pleasants, LLC.

Description: Compliance filing: Omnis Pleasants, LLC, Compliance Replace Interim Effect. 8/1/2024 to be effective 8/1/2024.

Filed Date: 12/3/25.

Accession Number: 20251203-5050.

Comment Date: 5 p.m. ET 12/24/25.

Docket Numbers: ER25-2695-001.

Applicants: Kelso 2 Solar LLC.

Description: Notice of Non-Material Change in Status of Kelso 2 Solar LLC.

Filed Date: 12/2/25.

Accession Number: 20251202-5197.

Comment Date: 5 p.m. ET 12/23/25.

Docket Numbers: ER26-108-000.

Applicants: Carousel Energy Storage, LLC.

Description: Amendment to 10/10/2025 Carousel Energy Storage, LLC tariff filing.

Filed Date: 11/25/25.

Accession Number: 20251125-5392.

Comment Date: 5 p.m. ET 12/16/25.

Docket Numbers: ER26-109-000.

Applicants: Chugwater Energy Center, LLC.

Description: Supplement to 10/10/2025, Chugwater Energy Center, LLC tariff filing.

Filed Date: 11/25/25.

Accession Number: 20251125-5393.

Comment Date: 5 p.m. ET 12/16/25.

Docket Numbers: ER26-640-000.

Applicants: Golden Fields Solar VI, LLC.

Description: 205(d) Rate Filing: Certificate of Concurrence and Request for Waivers and Blanket Approvals to be effective 12/31/9998.

Filed Date: 12/2/25.

Accession Number: 20251202-5183.

Comment Date: 5 p.m. ET 12/23/25.

Docket Numbers: ER26-641-000.

Applicants: Arizona Public Service Company.

Description: 205(d) Rate Filing: Rate Schedule No. 322, LGIA w/Co Bar Solar to be effective 2/1/2026.

Filed Date: 12/2/25.

Accession Number: 20251202-5191.

Comment Date: 5 p.m. ET 12/23/25.

Docket Numbers: ER26-642-000.

Applicants: Morongo Transmission LLC.

Description: 205(d) Rate Filing: Operating Cost True-Up 2026 to be effective 1/1/2026.

Filed Date: 12/2/25.

Accession Number: 20251202-5194.

Comment Date: 5 p.m. ET 12/23/25.

Docket Numbers: ER26-644-000.

Applicants: Evergy Kansas Central, Inc.

Description: 205(d) Rate Filing: Nemaha Marshall Electric Cooperative Delivery Point Facilities Agreement to be effective 1/1/2026.

Filed Date: 12/3/25.

Accession Number: 20251203-5051.

Comment Date: 5 p.m. ET 12/24/25.

Docket Numbers: ER26-645-000.

Applicants: Sierra Pacific Power Company.

Description: 205(d) Rate Filing: SPPC-Harney Funding Agreement Filing to be effective 12/4/2025.

Filed Date: 12/3/25.

Accession Number: 20251203-5053.

Comment Date: 5 p.m. ET 12/24/25.

Docket Numbers: ER26-646-000.

Applicants: Midcontinent Independent System Operator, Inc.

Description: 205(d) Rate Filing: 2025-12-03_SA 4599 DEI-DEI GIA (R1044) to be effective 11/25/2025.

Filed Date: 12/3/25.

Accession Number: 20251203-5058.

Comment Date: 5 p.m. ET 12/24/25.

Docket Numbers: ER26-647-000.

Applicants: PJM Interconnection, L.L.C.

Description: 205(d) Rate Filing: Amendment to ISA, Service Agreement No. 5690; Queue No. AF1-184 to be effective 2/2/2026.

Filed Date: 12/3/25.

Accession Number: 20251203-5061.

Comment Date: 5 p.m. ET 12/24/25.

Docket Numbers: ER26-648-000.

Applicants: Atlas Solar VI, LLC.

Description: 205(d) Rate Filing: Atlas Solar VI, LLC MBR Application to be effective 12/29/2025.

Filed Date: 12/3/25.

Accession Number: 20251203-5076.

Comment Date: 5 p.m. ET 12/24/25.

Docket Numbers: ER26-649-000.

Applicants: Atlas Solar V, LLC.

Description: 205(d) Rate Filing: Atlas Solar V, LLC MBR Application to be effective 12/29/2025.

Filed Date: 12/3/25.

Accession Number: 20251203-5077.

Comment Date: 5 p.m. ET 12/24/25.

Docket Numbers: ER26-650-000.

Applicants: True Source Power LLC.

Description: Initial Rate Filing: Application for Market-Based Rate Authority with Expedited Treatment to be effective 1/1/2026.

Filed Date: 12/3/25.

Accession Number: 20251203-5082.

Comment Date: 5 p.m. ET 12/24/25.

Docket Numbers: ER26-651-000.

Applicants: Southwest Power Pool, Inc.

Description: 205(d) Rate Filing: 3127R9 Montana-Dakota Utilities Co. NITSA NOA to be effective 2/1/2026.

Filed Date: 12/3/25.

Accession Number: 20251203-5114.

Comment Date: 5 p.m. ET 12/24/25.

Docket Numbers: ER26-652-000.

Applicants: Evergy Metro, Inc.

Description: 205(d) Rate Filing: Baldwin City Delivery Point Facilities Agreement to be effective 1/1/2026.

Filed Date: 12/3/25.

Accession Number: 20251203-5131.

Comment Date: 5 p.m. ET 12/24/25.

Docket Numbers: ER26-653-000.

Applicants: Avista Corporation.

Description: Compliance filing: Avista Corp Order 904 Compliance Filing to be effective 12/3/2025.

Filed Date: 12/3/25.

Accession Number: 20251203-5158.

Comment Date: 5 p.m. ET 12/24/25.

Docket Numbers: ER26-654-000.

Applicants: AEP Texas Inc.

Description: 205(d) Rate Filing: AEPTX-Hyfuels Green Lake Wind Amended Agreement to be effective 11/13/2025.

Filed Date: 12/3/25.

Accession Number: 20251203-5166.

Comment Date: 5 p.m. ET 12/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 3, 2025.
Carlos D. Clay,
Deputy Secretary.

[FR Doc. 2025-22179 Filed 12-5-25; 8:45 am]

BILLING CODE 6717-01-P